DEPARTMENT OF LABOR

Bureau of Labor Statistics

Data Users Advisory Committee; Notice of Meeting and Agenda

The Bureau of Labor Statistics Data Users Advisory Committee will meet on Thursday, November 9, 2017. The meeting will be held in the Postal Square Building, 2 Massachusetts Avenue NE., Washington, DC.

The Committee provides advice to the Bureau of Labor Statistics from the points of view of data users from various sectors of the U.S. economy, including the labor, business, research, academic, and government communities, on technical matters related to the collection, analysis, dissemination, and use of the Bureau's statistics, on its published reports, and on the broader aspects of its overall mission and function.

The meeting will be held in Meeting Rooms 1, 2, and 3 of the Janet Norwood Conference and Training Center. The schedule and agenda for the meeting are as follows:

8:30 a.m. Registration

9:00 a.m. Commissioner's welcome and review of agency developments

9:45 a.m. Changes to the North American Industry Classification System (NAICS) and the Standard Occupational Classification (SOC) system

10:30 a.m. Data Collection Tools with a Data User Focus and Improving “At a Glance” Web pages

11:30 a.m. Comparing industry indexes between the International Price Program (IPP) and the Producer Price Program (PPI)

1:15 p.m. Data Repository and External Access initiative

2:15 p.m. Publicizing revamped modeled wages

3:30 p.m. BLS Public Data Application Programming Interface (API)

4:30 p.m. Meeting wrap-up

The meeting is open to the public. Any questions concerning the meeting should be directed to Kathy Mele, Data Users Advisory Committee, on 202.691.6102. Individuals who require special accommodations should contact Ms. Mele at least two days prior to the meeting date.

Signed at Washington, DC, this 26th day of September 2017.
Kimberley D. Hill,
Chief, Division of Management Systems.

[FR Doc. 2017-20979 Filed 9-29-17; 8:45 am]

BILLING CODE 4510-24-P